DEPARTMENT OF TRANSPORTATION

Office of the Secretary

Aviation Proceedings, Agreements Filed During the Week Ending January 25, 2002

The following Agreements were filed with the Department of Transportation under the provisions of 49 U.S.C. Sections 412 and 414. Answers may be filed within 21 days after the filing of the application.

Docket Number: OST-2002-11380.

Date Filed: January 23, 2002.

Parties: Members of the International Air Transport Association.

Subject: PTC2 EUR-ME 0127 dated 25 January 2002, Mail Vote 194—Resolution 010w, TC2 Europe-Middle East Special Passenger Amending Resolution between Nicosia and Tel Avia r1-r10, Intended effective date: 1 February 2002.

Docket Number: OST-2002-11403.

Date Filed: January 25, 2002.

Parties: Members of the International Air Transport Association.

Subject: PTC3 0543 dated 18 January 2002, Mail Vote 190—Resolution 010u, TC3 between Japan/Korea and South East Asia Special Passenger Amending Resolution between China (excluding Hong Kong SAR and Macau SAR) and Japan, Intended effective date: 26 April 2002.

Dorothy Y. Beard,
Federal Register Liaison.

[FR Doc. 02-3214 Filed 2-8-02; 8:45 am]

BILLING CODE 4910-62-P